DEPARTMENT OF DEFENSE

Department of the Navy

Public Hearings for the Draft Programmatic Environmental Impact Statement for Ford Island Development, Pearl Harbor, HI

AGENCY: Department of the Navy, DOD.

ACTION: Announcement of public hearings.

SUMMARY: The Department of the Navy (Navy) has prepared and filed with the United States Environmental Protection Agency (EPA) a Draft Programmatic Environmental Impact Statement (PEIS) for Ford Island Development, Pearl Harbor, Hawaii. Two public hearings will be held to receive oral and written comments on the Draft PEIS in accordance with the National Environmental Policy Act of 1969 (NEPA), as implemented by the Council on Environmental Quality regulations (40 CFR Parts 1500-1508), and request input as part of the Section 106 process of the National Historic Preservation Act of 1966, as implemented by the Advisory Council on Historic Preservation regulations (36 CFR Part 800). Federal, state, and local agencies and interested individuals are invited to be present or represented at the hearing.

DATES AND ADDRESSES: The first public hearing will be held on Wednesday, August 1, 2001, at 7 p.m. in the Aliamanu Intermediate School Cafeteria, 3271 Salt Lake Boulevard, Honolulu, HI. The second public hearing will be held on Thursday, August 2, 2001, at 7:00 p.m. in the Washington Middle School Cafeteria, 1633 South King Street, Honolulu, HI.

FOR FURTHER INFORMATION CONTACT: Mr. Stanley Uehara (Code PLN231), Pacific Division, Naval Facilities Engineering Command, 258 Makalapa Drive, STE 100, Pearl Harbor, HI 96860-3134, telephone (808) 471-9338, fax (808) 474-5909, E-Mail .

SUPPLEMENTARY INFORMATION: Pursuant to Section 102(2)(C) of NEPA, the Navy has prepared and filed with the EPA a Draft PEIS for development of Ford Island at Pearl Harbor, HI.

A Notice of Intent for this PEIS was published in the Federal Register on April 14, 2000 (65 FR 20141).

Two public scoping meetings were held in Honolulu, HI, on May 2, 2000, and on May 4, 2000.

The proposed action is to consolidate selected operations at Pearl Harbor by locating and relocating certain activities onto Ford Island. This proposed action will use special legislation (10 U.S.C. 2814) that permits the Navy to sell or lease underutilized Navy properties on Oahu and to use the proceeds (in cash or in kind) for construction and facilities maintenance on Ford Island. Other work will be accomplished through conventional means such as the Military Construction Program, Non-Appropriated Funds, and Family Housing Public-Private Venture. Under consideration are new construction and, as appropriate, adaptive reuse of existing structures on Ford Island, for up to 420 new family housing units, up to 250,000 square feet of administrative space, bachelor enlisted quarters for up to 1,000 personnel, and a consolidated training complex, as well as infrastructure improvements. Up to 75 acres on Ford Island are proposed for private sector opportunities through a lease agreement. Four other Navy-owned parcels are proposed for sale or lease in return for revenues or in-kind consideration: Navy property at the Waikele Branch of Naval Magazine Pearl Harbor; family housing and related property at the former Naval Air Station Barbers Point; family housing and related property at Iroquois Point/Puuloa Housing; and Halawa Landing property on Pearl Harbor main side.

The proposed action will make positive use of the available lands and historic buildings on Ford Island in order to achieve greater operational efficiency and provide improved housing and quality of life for sailors and their families. Specific objectives are to provide additional high-quality family housing and community support services in close proximity to the Pearl Harbor Naval Complex where sailors work, thereby reducing commuting distances and improving the quality of their lives, and reducing maintenance costs and congestion at Pearl Harbor main side by relocating certain activities to Ford Island and replacing obsolete facilities. Use of some portions of Ford Island is constrained by existing facilities, historic resources, and operational requirements.

Alternatives for different levels of intensity of land use on Ford Island are considered in the Draft PEIS: High Intensity; Medium Intensity; Low Intensity; and No Action. Each development alternative represents a different designed balance between Navy and private development activities on Ford Island, and each alternative, except the No Action Alternative, includes the sale or lease of Navy properties to support Ford Island development. The High Intensity alternative assumes a level of development on Ford Island that meets all Navy facilities requirements, combined with private development that maximizes mixed-use development. The Medium Intensity Alternative also meets Navy facilities requirements on Ford Island with private development representing a reasonably sized mixed-use development. The Low Intensity Alternative limits the development on Ford Island to Navy requirements only. The Draft PEIS also considers the No Action Alternative, which assumes no further development of Ford Island, no private development, and no sale or long-term lease of Navy properties.

No decision on the proposed action will be made until the NEPA process is completed. The decision will be announced when the Secretary of the Navy releases the Record of Decision.

The Draft PEIS has been distributed to various federal, state, and local agencies, elected officials, and special interest groups. The Draft PEIS is available for public review at the following public libraries:

—Hawaii State Library, 478 South King Street, Honolulu, HI

—Salt Lake/Moanalua Public Library, 3225 Salt Lake Boulevard, Honolulu, HI

—Aiea Public Library, 99-143 Moanalua Road, Aiea, HI

—Pearl City Public Library, 1138 Waimano Home Road, Pearl City, HI

—Waipahu Public Library, 94-275 Mokuola Street, Waipahu, HI

—Ewa Beach Public Library, 91-950 North Road, Ewa Beach, HI

The Navy will conduct two public hearings to receive oral and written comments concerning the Draft PEIS. The public hearings will begin with a brief presentation followed by a request for comments on the Draft PEIS. Federal, state, and local agencies, and interested parties are invited to be present or represented at the hearings. Those who intend to speak will be asked to submit a speaker card (available at the door). Oral comments will be transcribed by a stenographer. To assure accuracy of the record, all statements should be submitted in writing. All statements, both oral and written, will become part of the public record in the study, with equal weight given to each. In the interest of available time, each speaker will be asked to limit oral comments to three minutes. Longer comments should be summarized at the public hearing and submitted in writing either at the hearing or mailed to Naval Facilities Engineering Command, Pacific Division, 258 Makalapa Drive, STE 100, Pearl Harbor, Hawaii 96860-3134 (Attn: Mr. Stanley Uehara, Code PLN231). Written comments should be postmarked by August 27, 2001.

Dated: July 11, 2001.
T. J. Welsh,
Lieutenant Commander, Office of the Judge Advocate General, Federal Register Liaison Officer.

[FR Doc. 01-17905 Filed 7-17-01; 8:45 am]

BILLING CODE 3810-FF-P